ENVIRONMENTAL PROTECTION AGENCY

[AZ023-CORR; FRL-6853-2]

Adequacy Status of the Maricopa County, Arizona Submitted PM-10 Attainment Plan for Transportation Conformity Purposes, Correction

AGENCY: Environmental Protection Agency (EPA).

ACTION: Notice of correction.

SUMMARY: This action corrects language in a public notice that was published in the Federal Register on April 6, 2000, that stated that the submitted Maricopa County (Phoenix, Arizona) serious area particulate matter (PM-10) attainment plan is adequate for transportation conformity purposes. This notice does not change the adequacy status of the plan, just clarifies language in the April 6 notice.

DATES: This notice is effective August 18, 2000.

FOR FURTHER INFORMATION CONTACT: The finding is available at EPA's conformity website: http://www.epa.gov/oms/traq, (once there, click on the “Conformity” button, then look for “Adequacy Review of SIP Submissions for Conformity”). You may also contact Karina O'Connor, U.S. EPA, Region IX, Air Division AIR-2, 75 Hawthorne Street, San Francisco, CA 94105; (415) 744-1247 or oconnor.karina@epa.gov.

SUPPLEMENTARY INFORMATION: The April 6, 2000 notice announced our finding that the Revised MAG 1999 Serious Area Particulate Plan for PM-10 for the Maricopa County Nonattainment Area (February 2000), submitted by the Arizona on February 16, 2000, contains adequate emissions budgets ¹ for transportation conformity purposes. The last sentence of the notice, which refers to how the adequacy decision was made, incorrectly stated “We followed this guidance in making our inadequacy determination on the Maricopa County PM-10 plan.” This sentence should have stated, “We followed this guidance in making our adequacy determination on the Maricopa County PM-10 plan.”

¹ Note that the plan provides for a regional PM10 emission budget which is applicable for both the annual and 24 hour PM-10 standards.

Authority: 42 U.S.C. 7401 et seq.

Dated: August 10, 2000.
Laura Yoshii,
Acting Regional Administrator, Region IX.

[FR Doc. 00-21077 Filed 8-17-00; 8:45 am]

BILLING CODE 6560-50-P